FEDERAL COMMUNICATIONS COMMISSION

[WC Docket No 02-60; DA 12-273]

Comment Sought on Funding Pilot Program Participants Transitioning Out of the Rural Health Care Pilot Program in Funding Year 2012

AGENCY: Federal Communications Commission.

ACTION: Notice; solicitation of comments.

SUMMARY: In this document, the Wireline Competition Bureau seeks comment on whether to fund Rural Health Care Pilot Program (Pilot Program) participants who will exhaust funding allocated to them before or during funding year 2012 (July 1, 2012-June 30, 2013). This funding would maintain support for qualifying Pilot Program participants, on an interim basis, during the 2012 funding year to provide time to establish a process to transition them into the permanent Rural Health Care support mechanism (RHC support mechanism).

DATES: Comments are due on or before April 18, 2012. Reply comments are due on or before May 3, 2012.

ADDRESSES: Interested parties may file comments on or before April 18, 2012. All pleadings are to reference WC Docket No. 02-60. Comments may be filed using the Commission's Electronic Comment Filing System (ECFS), or by filing paper copies, by any of the following methods:

• Electronic Filers: Comments may be filed electronically using the Internet by accessing the ECFS: http://fjallfoss.fcc.gov/ecfs2/.

• Paper Filers: Parties who choose to file by paper must file an original and four copies of each filing. If more than one docket or rulemaking number appears in the caption of this proceeding, filers must submit two additional copies for each additional docket or rulemaking number.

• People with Disabilities: To request materials in accessible formats for people with disabilities (Braille, large print, electronic files, audio format), send an email to fcc504@fcc.gov or call the Consumer & Governmental Affairs Bureau at (202) 418-0530 (voice), (202) 418-0432 (tty).

For detailed instructions for submitting comments and additional information on the rulemaking process, see the SUPPLEMENTARY INFORMATION section of this document.

FOR FURTHER INFORMATION CONTACT: Christianna Lewis Barnhart, Wireline Competition Bureau at Christianna.Barnhart@fcc.gov or (202) 418-7400 or TTY (202) 418-0484.

SUPPLEMENTARY INFORMATION: This is a synopsis of the Commission's Public Notice in WC Docket No. 02-60; DA 12-273, released February 27, 2012. The complete text of this document is available for inspection and copying during normal business hours in the FCC Reference Information Center, Portals II, 445 12th Street SW., Room CY-A257, Washington, DC 20554. The document may also be purchased from the Commission's duplicating contractor, Best Copy and Printing, Inc., 445 12th Street SW., Room CY-B402, Washington, DC 20554, telephone (800) 378-3160 or (202) 863-2893, facsimile (202) 863-2898, or via the Internet at http://www.bcpiweb.com.

1. The Wireline Competition Bureau (Bureau) seeks comment on whether to fund Rural Health Care Pilot Program (Pilot Program) participants who will exhaust funding allocated to them before or during funding year 2012 (July 1, 2012-June 30, 2013). This funding would maintain support for qualifying Pilot Program participants, on an interim basis, during the 2012 funding year to provide time to establish a process to transition them into the permanent Rural Health Care support mechanism (RHC support mechanism). To support these transitioning Pilot Program participants, the funds that were previously designated for projects that withdrew from the Program or otherwise failed to meet the June 30, 2011, deadline could be used without increasing overall demand.

I. Background

2. The rural health care telecommunications program ensures that rural health care providers pay no more than their urban counterparts for their telecommunications needs in the provision of health care services. The rural health care Internet access program provides a 25 percent discount off the cost of monthly Internet access for eligible rural health care providers. Together the telecommunications and Internet access programs are commonly referred to as the “Primary Program.”

3. In 2006, the Commission created a three-year Pilot Program to examine ways to use the RHC support mechanism to enhance public and non-profit health care providers' access to advanced telecommunications and information services. Participants in the Pilot Program are eligible to receive universal service funding to support up to 85 percent of the eligible costs of broadband infrastructure deployment of telehealth networks that connect to rural and urban health care providers in a State or region. Although the FCC originally selected 69 different projects to participate in the Pilot Program, only 50 projects are currently in existence today. Several projects merged and twelve projects either withdrew from the program or otherwise failed to meet the June 30, 2011 funding commitment deadline and were no longer eligible to participate in the Pilot Program. Funding that was designated to support these twelve projects totaled approximately $30 million.

4. Approximately 484 individual health care providers (HCPs) participating in the Pilot Program are scheduled to transition out of the program during the 2012 funding year because their respective Pilot projects will have reached their funding cap under the 2007 Pilot Program Selection Order, 73 FR 8670, February 14, 2008, and the HCPs will have exhausted the amounts of Pilot Program support allocated to them under the relevant funding commitment letters issued by USAC. These providers are members of networks, as was required by the Pilot Program, and they applied for Pilot funding as consortia (as explicitly permitted under section 254(h)(7)(B) of the Act). The rural HCPs that have exhausted their Pilot funding could seek support from the Primary Program in the 2012 funding year (July 1, 2012-June 30, 2013). Significant differences between Pilot and Primary Program rules regarding eligibility and funding may make it difficult, however, for Pilot Program participants to apply for funding in the Primary Program. One Pilot project (and its service provider) has already raised questions about transitioning to the funding mechanisms in the Primary Program.

5. In July 2010, the Commission sought comment on a number of issues, including how to transition Pilot Program participants to the ongoing rural health care support mechanism. We now seek more focused comment on supporting select Pilot Program participants at their current funding levels to “bridge” the disparity in funding and application requirements between the Pilot Program and Primary Programs for the 2012-2013 funding year. The Commission recognized in the 2006 Pilot Program Order, 71 FR 65517, November 8, 2006, that circumstances may necessitate additional funding for Pilot Program participants. Accordingly, this “bridge” funding could provide additional time to consider how best to transition Pilot Program participants, while preserving the connectivity that has been developed under the Pilot. To support these transitioning Pilot Program participants, the funds that were previously designated for projects that withdrew from the Program or otherwise failed to meet the June 30, 2011, deadline could be used without increasing overall demand.

6. Exhaustion of Pilot Program Funds. We seek comment on providing funds only to those participants that will have exhausted all Pilot Program funding allocated to them before or during funding year 2012 (July 1, 2012-June 30, 2013), as described above. USAC estimates that approximately 14 out of the existing 50 projects will have some individual health care providers that will have spent all of the money in their initial award. We seek comment on this proposal and how providing such funding for an additional year would impact the sustainability of the networks developed with Pilot Program funds.

7. Support levels for 2012-2013 funding year. We also seek comment on whether to maintain the existing level of support that these Pilot Program participants receive annually for their recurring costs. For instance, USAC could determine each participant's allocation for funding year 2012 by calculating the yearly average amount of support for recurring costs that participants have received over the life of their Pilot projects and fund them at that amount. Using this methodology, USAC estimates that it would cost approximately $10 million to fund transitioning health care providers in funding year 2012. We seek comment on this proposal to maintain the current level of support for eligible Pilot Program participants' recurring costs. Alternatively, those recipients could receive a lower discount than the current 85 percent. Commenters who suggest alternative funding support levels should offer explanation why the funding level should be different than what is currently provided in the Pilot Program.

8. Duration. Pilot Program participants who meet eligibility requirements to receive transitional funding would only be eligible to receive funds for the 2012 funding year (July 1, 2012-June 30, 2013). We seek comment on this proposal. Commenters who suggest that Pilot Program participants should be eligible for funding for a different period of time should provide reasoning for their proposal.

9. Paperwork Reduction Act of 1995. This document does not contain new or modified information collection(s) subject to the Paperwork Reduction Act of 1995 (PRA), Public Law 104-13. In addition, therefore, it does not contain any new or modified information burden for small business concerns with fewer than 25 employees, pursuant to the Small Paperwork Relief Act of 2002, Public Law 107-198, see 44 U.S.C. 3506(c)(4).

10. Pursuant to §§ 1.415 and 1.419 of the Commission's rules, 47 CFR 1.415, 1.419, interested parties may file comments on or before the dates indicated on the first page of this document. All pleadings are to reference WC Docket No. 02-60. Comments may be filed using: (1) The Commission's Electronic Comment Filing System (ECFS), or (2) by filing paper copies. All filings must be addressed to the Commission's Secretary, Office of the Secretary, Federal Communications Commission.

11. Electronic Filers: Comments may be filed electronically using the Internet by accessing the ECFS: http://apps.fcc.gov/ecfs/. Filers should follow the instructions provided on the Web site for submitting comments.

12. Paper Filers: Parties who choose to file by paper must file an original and one copy of each filing. If more than one docket or rulemaking number appears in the caption of this proceeding, filers must submit two additional copies for each additional docket or rulemaking number. Filings can be sent by hand or messenger delivery, by commercial overnight courier, or by first-class or overnight U.S. Postal Service mail. All filings must be addressed to the Commission's Secretary, Office of the Secretary, Federal Communications Commission.

• All hand-delivered or messenger-delivered paper filings for the Commission's Secretary must be delivered to FCC Headquarters at 445 12th St. SW., Room TW-A325, Washington, DC 20554. All hand deliveries must be held together with rubber bands or fasteners. Any envelopes must be disposed of before entering the building. The filing hours are 8 a.m. to 7 p.m.

• Commercial overnight mail (other than U.S. Postal Service Express Mail and Priority Mail) must be sent to 9300 East Hampton Drive, Capitol Heights, MD 20743.

• U.S. Postal Service first-class, Express, and Priority mail must be addressed to 445 12th Street SW., Washington DC 20554.

13. Additional copies. One copy of each filing must be sent to each of the following:

• The Commission's duplicating contractor, Best Copy and Printing, Inc., 445 12th Street SW., Room CY-B402, Washington, DC 20554, www.bcpiweb.com; phone: (202) 488-5300 fax: (202) 488-5563;

• Christianna Lewis Barnhart, Telecommunications Access Policy Division, Wireline Competition Bureau, 445 12th Street SW., Room 5-B552, Washington, DC 20554; email: Christianna.Barnhart@fcc.gov and

• Charles Tyler, Telecommunications Access Policy Division, Wireline Competition Bureau, 445 12th Street SW., Room 5-B521, Washington, DC 20554; email: Charles.Tyler@fcc.gov.

14. People with Disabilities: To request materials in accessible formats for people with disabilities (Braille, large print, electronic files, audio format), send an email to fcc504@fcc.gov or call the Consumer & Governmental Affairs Bureau at (202) 418-0530 (voice), (202) 418-0432

15. Filings and comments are also available for public inspection and copying during regular business hours at the FCC Reference Information Center, Portals II, 445 12th Street SW., Room CY-A257, Washington, DC 20554. They may also be purchased from the Commission's duplicating contractor, Best Copy and Printing, Inc., Portals II, 445 12th Street SW., Room CY-B402, Washington, DC 20554, telephone: (202) 488-5300, fax: (202) 488-5563, or via email www.bcpiweb.com.

16. This matter shall be treated as a “permit-but-disclose” proceeding in accordance with the Commission's ex parte rules. Persons making oral ex parte presentations are reminded that memoranda summarizing the presentations must contain summaries of the substance of the presentation and not merely a listing of the subjects discussed. More than a one or two sentence description of the views and arguments presented generally is required. Other rules pertaining to oral and written ex parte presentations in permit-but-disclose proceedings are set forth in § 1.1206(b) of the Commission's rules.

Federal Communications Commission.
Trent Harkrader,
Division Chief, Wireline Competition Bureau.

[FR Doc. 2012-5687 Filed 3-8-12; 8:45 am]

BILLING CODE 6712-01-P